DEPARTMENT OF TRANSPORTATION

Federal Aviation Administration

14 CFR Part 39

[Docket No. 2001-NM-319-AD]

RIN 2120-AA64

Airworthiness Directives; Dornier Model 328-300 Series Airplanes Equipped With Certain Pratt & Whitney PW306B Engine Nacelles

AGENCY: Federal Aviation Administration, DOT.

ACTION: Supplemental notice of proposed rulemaking; reopening of comment period.

SUMMARY: This document revises an earlier proposed airworthiness directive (AD), applicable to certain Dornier Model 328-300 series airplanes, that would have required performing a check of the airplane maintenance records; inspecting the engine nacelle anti-ice tube for leaks, if necessary; and modifying the joint, if necessary. This new action revises the proposed rule by removing the requirement to perform a records check, which was intended to allow operators to determine whether the inspection would be required. The actions specified by this new proposed AD are intended to prevent an uncommanded engine shutdown in a critical phase of flight due to leakage of air from a loose clamp on the anti-ice tubing joint. This action is intended to address the identified unsafe condition.

DATES: Comments must be received by August 11, 2003.

ADDRESSES: Submit comments in triplicate to the Federal Aviation Administration (FAA), Transport Airplane Directorate, ANM-114, Attention: Rules Docket No. 2001-NM-319-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-319-AD” in the subject line and need not be submitted in triplicate. Comments sent via the Internet as attached electronic files must be formatted in Microsoft Word 97 or 2000 or ASCII text.

The service information referenced in the proposed rule may be obtained from FAIRCHILD Dornier GmbH, P.O. Box 1103, D-82230 Wessling, Germany. This information may be examined at the FAA, Transport Airplane Directorate, 1601 Lind Avenue, SW., Renton, Washington.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-319-AD.” The postcard will be date stamped and returned to the commenter.

Availability of NPRMs

Any person may obtain a copy of this NPRM by submitting a request to the FAA, Transport Airplane Directorate, ANM-114, Attention: Rules Docket No. 2001-NM-319-AD, 1601 Lind Avenue, SW., Renton, Washington 98055-4056.

Discussion

A proposal to amend part 39 of the Federal Aviation Regulations (14 CFR part 39) to add an airworthiness directive (AD), applicable to certain Dornier Model 328-300 series airplanes, was published as a notice of proposed rulemaking (NPRM) in the Federal Register on March 12, 2003 (68 FR 11762). That NPRM (the “original NPRM”) would have required performing a check of the airplane maintenance records; inspecting the engine nacelle anti-ice tube for leaks, if the records check indicated that an engine change had been accomplished or maintenance work had been carried out on the nacelle anti-ice system; and modifying the joint, if necessary. The original NPRM was prompted by a report of an in-flight engine shutdown during an airplane rollback due to a P3 air leak from a loose clamp on the anti-ice tubing joint. Such leakage of air, if not corrected, could result in an uncommanded engine shutdown in a critical phase of flight.

Actions Since Issuance of Original NPRM

Since the issuance of the original NPRM, the FAA has determined that the proposed records check may be inadequate to identify airplanes subject to the identified unsafe condition. While it may be possible to determine some of the maintenance history from the maintenance records, a records check cannot definitively determine that certain maintenance work has not been carried out on a particular airplane. Therefore, the FAA has determined that paragraph (a) of the original NPRM must be revised to remove the proposed records check to determine whether certain maintenance had been done. In this supplemental NPRM, paragraph (a) has been removed, paragraph (b) has been revised accordingly, and subsequent paragraphs have been reidentified.

Conclusion

Since this change expands the scope of the originally proposed rule, the FAA has determined that it is necessary to reopen the comment period to provide additional opportunity for public comment.

Changes to 14 CFR Part 39/Effect on This Supplemental NPRM

On July 10, 2002, the FAA issued a new version of 14 CFR part 39 (67 FR 47997, July 22, 2002), which governs the FAA's AD system. This regulation now includes material that relates to altered products, special flight permits, and alternative methods of compliance. In this supplemental NPRM, the office authorized to approve AMOCs is identified in paragraph (c), and Note 1 and paragraph (e) of the original NPRM have been removed.

Cost Impact

The FAA estimates that 48 airplanes of U.S. registry would be affected by this proposed AD, that it would take approximately 1 work hour per airplane to do the inspection, and that the average labor rate is $60 per work hour. Based on these figures, the cost impact of the proposed AD on U.S. operators is estimated to be $2,880, or $60 per airplane.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Fairchild Dornier GMBH (Formerly Dornier Luftfahrt GmbH): Docket 2001-NM-319-AD.

Applicability: Model 328-300 series airplanes equipped with Pratt & Whitney PW306B engine nacelles, from engine nacelle serial number DR0001 up to and including serial number DR0051, certificated in any category.

Compliance: Required as indicated, unless accomplished previously.

To prevent an uncommanded engine shutdown in a critical phase of flight due to leakage of air from a loose clamp on the anti-ice tubing joint, accomplish the following:

Inspection

(a) Within 45 days after the effective date of this AD, perform a detailed inspection of the anti-ice tubing in the engine nacelle at the joint between the anti-ice tubing adapter and duct, and also between the joint of the anti-ice shutoff valve and the same duct, to detect any air leakage at the joints, as specified in the Accomplishment Instructions of Dornier Service Bulletin SB-328J-71-107, Revision 1, dated July 4, 2001. If no leakage is detected, no further action is required by this AD.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Modification

(b) If air leakage is found during the detailed inspection required by paragraph (a) of this AD, before further flight, modify the joint by doing the applicable actions specified in the Accomplishment Instructions of Dornier Service Bulletin SB-328J-71-107, Revision 1, dated July 4, 2001.

Alternative Methods of Compliance

(c) In accordance with 14 CFR 39.19, the Manager, International Branch, ANM-116, FAA, is authorized to approve alternative methods of compliance for this AD.

Note 2: The subject of this AD is addressed in German airworthiness directive 2001-296, dated October 18, 2001.

Issued in Renton, Washington, on July 9, 2003.
Ali Bahrami,
Acting Manager, Transport Airplane Directorate, Aircraft Certification Service.

[FR Doc. 03-17817 Filed 7-14-03; 8:45 am]

BILLING CODE 4910-13-P